Proclamation 10731 of April 19, 2024

National Volunteer Week, 2024

By the President of the United States of America

A Proclamation

America's volunteers embody the core values that define our Nation: an optimism that is tested yet resolute; a courage that digs deep when we need it most; and an unshakeable faith in one another, our Nation, and the future we can build together. During National Volunteer Week, we celebrate the millions of selfless Americans who keep faith in all of us and give their time, service, and hearts to make sure no one is left behind.

I have often said that America is a good Nation because we are a good people—every day, our country's volunteers prove that to be true. They lead by the power of their example. From helping rebuild homes after devastating disasters to tutoring our youth and helping ensure orderly elections, volunteers strengthen our communities and improve the lives of people across our Nation and around the world. Through these extraordinary acts of service, volunteers also have the opportunity to engage with new communities and try new things—building professional networks and friendships, learning skills, and finding a sense of purpose. Volunteering is truly at the heart of our American spirit: working together to build a future of greater possibilities.

My Administration is proud to have put more volunteering opportunities within reach of Americans. More than one million Americans have served as AmeriCorps volunteers, donating their time to improve communities across the country. This includes the 140,000 older Americans who serve as AmeriCorps' senior volunteers. Together, AmeriCorps volunteers have stepped up in the face of national emergencies—from helping put shots in arms during the COVID-19 pandemic to serving as recovery coaches for those impacted by the opioid crisis and responding to natural disasters. My Administration is proud to have made a historic $1 billion investment in AmeriCorps through our American Rescue Plan so they could expand operations and strengthen their programs. Around the world, our Peace Corps volunteers work alongside the members of thousands of communities to improve people's lives by helping small-scale farmers succeed, teaching small business skills in classrooms, promoting health equity, and so much more.

During National Volunteer Week, we remember that even one act of service—big or small—can make a difference. Volunteers spread hope and, in the process, inspire so many to give back to their communities. I encourage everyone to look for ways to volunteer in their own communities, show up for one another, and step up for those in need. For more information, visit AmeriCorps.gov and peacecorps.gov/volunteer.

NOW, THEREFORE, I, JOSEPH R. BIDEN JR., President of the United States of America, by virtue of the authority vested in me by the Constitution and the laws of the United States, do hereby proclaim April 21 through April 27, 2024, as National Volunteer Week. I call upon all Americans to observe this week by volunteering in service projects across the country and pledging to make service a part of their daily lives.

IN WITNESS WHEREOF, I have hereunto set my hand this nineteenth day of April, in the year of our Lord two thousand twenty-four, and of the Independence of the United States of America the two hundred and forty-eighth.

[FR Doc. 2024-08910

Filed 4-23-24; 8:45 am]

Billing code 3395-F4-P